ENVIRONMENTAL PROTECTION AGENCY

[ER-FRL-9057-4]

Environmental Impact Statements; Notice of Availability

Responsible Agency: Office of Federal Activities, General Information 202-564-5632 or https://www.epa.gov/nepa.

Weekly receipt of Environmental Impact Statements (EIS)

Filed July 2, 2021 10 a.m. EST Through July 12, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210095, Draft, FHWA, NY, Interstate 81 Viaduct Project, Comment Period Ends: 09/14/2021, Contact: Richard J. Marquis 518-431-4127.

EIS No. 20210096, Final, AZDOT, FHWA, AZ, Tier 1 Environmental Impact Statement and Preliminary Section 4(f) Evaluation for Interstate 11 Corridor between Nogales and Wickenburg, Arizona, Review Period Ends: 08/16/2021, Contact: Alan Hansen 602-382-8964.

EIS No. 20210097, Draft, FERC, AZ, North Baja Xpress Project, Comment Period Ends: 08/30/2021, Contact: Office of External Affairs 866-208-3372.

EIS No. 20210098, Draft, VA, PRO, Draft Programmatic Environmental Impact Statement for Veterans Affairs Housing Loan Program, Comment Period Ends: 08/30/2021, Contact: Elysium Drumm 202-632-8862.

Dated: July 12, 2021.
Cindy S. Barger,
Director, NEPA Compliance Division, Office of Federal Activities.

[FR Doc. 2021-15134 Filed 7-15-21; 8:45 am]

BILLING CODE 6560-50-P